DEPARTMENT OF THE TREASURY

Internal Revenue Service

[TD 9249]

Proposed Collection; Comment Request for Regulation Project; Correction

AGENCY: Internal Revenue Service (IRS), Treasury.

ACTION: Correction to notice and request for comments.

SUMMARY: This document contains corrections to a notice and request for comments (TD 9249) that was published in the Federal Register on Monday, September 17, 2007 (72 FR 52954) inviting the general public and other Federal agencies to take this opportunity to comment on proposed and/or continuing information collections.

FOR FURTHER INFORMATION CONTACT: Robert Black at (202) 622-6665 (not a toll-free number), or through the internet at Robert.G.Black@irs.gov.

SUPPLEMENTARY INFORMATION:

Background

The notice and request for comments that is the subject of the correction is required by the Paperwork Reduction Act of 1995, Public Law 104-13 (44 U.S.C. 3506(c)(2)(A)).

Need for Correction

As published, the comment request for TD 9249 contains errors that may prove to be misleading and are in need of clarification.

Correction of Publication

Accordingly, the publication of the comment request for TD 9249, which was the subject of FR Doc. E7-18285, is corrected as follows:

1. On page 52954, column 2, in the preamble, under the caption “Summary:”, lines thirteen through nineteen, the language “existing notice of proposed rulemaking, REG-209619-93, Escrow Funds and Other Similar Funds (§§ 1.469B-1(k)(2), 1.468B-1(k)(3)(iv), 1.468B-6(e)(1), 1.468B-6(f), 1.468B-7(d), 1.468B-8(f), 1.468B-8(g)(1), 1.468B-9(c)(1), and 1.468B-9(f)(3).” is corrected to read “existing notice of TD 9249, Escrow Funds and Other Similar Funds.”.

2. On page 52954, column 3, in the preamble, under the caption “Supplementary Information:”, fourth line, the language “Regulation Project Number: REG-209619-93.” is corrected to read “Regulation Project Number: TD 9249.”.

3. On page 52954, column 3, in the preamble, under the caption “Supplementary Information:”, sixth line, the language “Abstract: These regulations would amend the final regulations for qualified settlement funds (QFSs) and would provide new rules for qualified escrows and qualified trusts used in deferred section 1031 exchanges; pre-closing escrows; contingent at-closing escrows; and disputed ownership funds.” is corrected to read “Abstract: This document contains final regulations relating to the taxation and reporting of income earned on qualified settlement funds and certain other escrow accounts, trusts, and funds, and other related rules. The final regulations affect qualified settlement funds, escrow accounts established in connection with sales of property, disputed ownership funds, and the parties to these escrow accounts, trusts, and funds.”.

LaNita Van Dyke,
Chief, Publications and Regulations Branch, Legal Processing Division, Associate Chief Counsel (Procedure and Administration).

[FR Doc. E7-21138 Filed 10-26-07; 8:45 am]

BILLING CODE 4830-01-P